FEDERAL COMMUNICATIONS COMMISSION

47 CFR Part 73

[DA 14-1773]

Radio Broadcasting Services; Various Locations

AGENCY: Federal Communications Commission.

ACTION: Final rule.

SUMMARY: The Audio Division amends the FM Table of Allotments to remove certain vacant FM allotments that are reserved for noncommercial educational (“NCE”) use. These FM assignments are currently authorized stations and, therefore, are no longer considered vacant FM allotments. FM assignments for authorized stations and reserved facilities will be reflected solely in Media Bureau's Consolidated Database System (CDBS).

DATES: Effective December 18, 2014.

FOR FURTHER INFORMATION CONTACT: Rolanda F. Smith, Media Bureau, (202) 418-2700.

SUPPLEMENTARY INFORMATION: This is a summary of the Report and Order, DA 14-1773, adopted December 4, 2014, and released December 5, 2014. The full text of this document is available for inspection and copying during normal business hours in the Commission's Reference Center 445 12th Street SW., Washington, DC 20554. The complete text of this document may also be purchased from the Commission's duplicating contractor, Best Copy and Printing, Inc., 445 12th Street SW., Room CY-B402, Washington, DC 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCASTING SERVICES

1. The authority citation for part 73 continues to read as follows:

Authority: 47 U.S.C. 154, 303, 334, 336, and 339.

§ 73.202 [Amended]

2. Amend § 73.202(b), the Table of FM Allotments, as follows:

a. Remove Anniston, under Alabama, Channel *261C3.

b. Remove Willcox, under Arizona, Channel *223C3.

c. Remove McKinleyville, under California, Channel *277C3.

d. Remove Big Pine Key, under Florida, Channel *239A and Live Oak, Channel *261A.

e. Remove Reynolds, under Georgia, Channel *245A.

f. Remove Weiser, under Idaho, Channel *280C1.

g. Remove Canton, under Illinois, Channel *277A; Clifton, Channel *297A; and Freeport, Channel *295A.

h. Remove Columbus, under Indiana, Channel *228A and Farmersburg, Channel *242A.

i. Remove Moville, under Iowa, Channel *246A.

j. Remove Smith Mills, under Kentucky, Channel *233A.

k. Remove Ringgold, under Louisiana, Channel *253C3.

l. Remove Hubbardston, under Michigan, Channel *279A.

m. Remove Huntsville, under Missouri, Channel *278C2.

n. Remove Alamo Community, under New Mexico, Channel *298A.

o. Remove Berthold, under North Dakota, Channel *264C.

p. Remove Weatherford, under Oklahoma, Channel *286A and Wynnewood, Channel *283A.

q. Remove Madras, under Oregon, Channel *243C1 and The Dalles, Channel *268C3.

r. Remove Susquehanna, under Pennsylvania, Channel *227A.

s. Remove Burnet, under Texas, Channel *240A and Denver City, Channel *248C2.

t. Remove Shenandoah, under Virginia, Channel *296A.

u. Remove Chewlah, under Washington, Channel *274C3.

v. Remove St Marys, under West Virginia, Channel *287A.

w. Remove Augusta, under Wisconsin, Channel *268C3 and Washburn, Channel *284A.

x. Remove Channel *226A, under Virgin Islands, at Charlotte Amalie.

[FR Doc. 2014-29584 Filed 12-17-14; 8:45 am]

BILLING CODE 6712-01-P